DEPARTMENT OF ENERGY

Federal Energy Regulatory Commission

Combined Notice of Filings #1

Take notice that the Commission received the following electric corporate filings:

Docket Numbers: EC19-77-001.

Applicants: Twin Eagle Resource Management, LLC, Public Service Company of Colorado.

Description: Notification of Consummation and Change in Circumstances of Xcel Energy Services Inc., on behalf of Public Service Company of Colorado, et al.

Filed Date: 7/26/19.

Accession Number: 20190726-5193.

Comments Due: 5 p.m. ET 8/5/19.

Take notice that the Commission received the following electric rate filings:

Docket Numbers: ER19-1166-000.

Applicants: ISO New England Inc.

Description: Response of ISO New England Inc. to July 27, 2019 Request for Additional Information (Non-Disclosure Agreement).

Filed Date: 7/26/19.

Accession Number: 20190726-5197.

Comments Due: 5 p.m. ET 8/2/19.

Docket Numbers: ER19-1641-001.

Applicants: California Independent System Operator Corporation.

Description: Tariff Amendment: 2019-07-26 Response to Deficiency Letter—RMR CPM Enhancements to be effective 9/27/2019.

Filed Date: 7/29/19.

Accession Number: 20190729-5002.

Comments Due: 5 p.m. ET 8/19/19.

Docket Numbers: ER19-1704-002.

Applicants: Midcontinent Independent System Operator, Inc., Ameren Illinois Company.

Description: Tariff Amendment: 2019-07-26_SA 2010 Ameren-SIPC Second Substitute WDS Agreement to be effective 7/1/2019.

Filed Date: 7/26/19.

Accession Number: 20190726-5145.

Comments Due: 5 p.m. ET 8/16/19.

Docket Numbers: ER19-1718-001.

Applicants: Duke Energy Florida, LLC.

Description: Tariff Amendment: DEF IA Annual Cost Factor Filing (2019) Response to Deficiency Letter to be effective 5/1/2019.

Filed Date: 7/26/19.

Accession Number: 20190726-5135.

Comments Due: 5 p.m. ET 8/16/19.

Docket Numbers: ER19-2099-001.

Applicants: Midcontinent Independent System Operator, Inc.

Description: Tariff Amendment: 2019-07-26_Amendment to Stage 1B of ARR Allocation Process filing to be effective 8/11/2019.

Filed Date: 7/26/19.

Accession Number: 20190726-5150.

Comments Due: 5 p.m. ET 8/5/19.

Docket Numbers: ER19-2476-000.

Applicants: Techren Solar II LLC.

Description: Baseline eTariff Filing: Application for MBR, Waivers, Blanket Authority, Confidential & Expedited Action to be effective 12/31/9998.

Filed Date: 7/26/19.

Accession Number: 20190726-5148.

Comments Due: 5 p.m. ET 8/16/19.

Docket Numbers: ER19-2478-000.

Applicants: Dynegy Resources Management, LLC.

Description: Tariff Cancellation: Cancellation of market-based rate tariff to be effective 7/30/2019.

Filed Date: 7/29/19.

Accession Number: 20190729-5047.

Comments Due: 5 p.m. ET 8/19/19.

Docket Numbers: ER19-2479-000.

Applicants: Aera Energy LLC.

Description: Baseline eTariff Filing: Market-Based Rate Application to be effective 9/28/2019.

Filed Date: 7/29/19.

Accession Number: 20190729-5095.

Comments Due: 5 p.m. ET 8/19/19.

Docket Numbers: ER19-2480-000.

Applicants: Georgia Power Company.

Description: § 205(d) Rate Filing: Odom Solar Affected System Construction Agreement Filing to be effective 6/27/2019.

Filed Date: 7/29/19.

Accession Number: 20190729-5096.

Comments Due: 5 p.m. ET 8/19/19.

Docket Numbers: ER19-2481-000.

Applicants: Georgia Power Company.

Description: § 205(d) Rate Filing: Lancaster Solar Affected System Construction Agreement Filing to be effective 6/28/2019.

Filed Date: 7/29/19.

Accession Number: 20190729-5102.

Comments Due: 5 p.m. ET 8/19/19.

Docket Numbers: ER19-2482-000.

Applicants: Southwest Power Pool, Inc.

Description: § 205(d) Rate Filing: 2446R2 Municipal Energy Agency of Nebraska NITSA and NOA to be effective 7/1/2019.

Filed Date: 7/29/19.

Accession Number: 20190729-5114.

Comments Due: 5 p.m. ET 8/19/19.

Docket Numbers: ER19-2484-000.

Applicants: Southwest Power Pool, Inc.

Description: § 205(d) Rate Filing: 3095R2 Missouri River Energy Services NITSA and NOA to be effective 7/1/2019.

Filed Date: 7/29/19.

Accession Number: 20190729-5121.

Comments Due: 5 p.m. ET 8/19/19.

Docket Numbers: ER19-2485-000.

Applicants: Imperial Valley Solar 2, LLC.

Description: § 205(d) Rate Filing: COC Cost True Filing to be effective 7/30/2019.

Filed Date: 7/29/19.

Accession Number: 20190729-5125.

Comments Due: 5 p.m. ET 8/19/19.

Take notice that the Commission received the following electric securities filings:

Docket Numbers: ES19-45-000; ES19-46-000

Applicants: AEP Generating Company, Kingsport Power Company.

Description: Application under Section 204 of the Federal Power Act for Authorization to Issue Securities of AEP Generating Company, et al.

Filed Date: 7/29/19.

Accession Number: 20190729-5079.

Comments Due: 5 p.m. ET 8/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2019.
Nathaniel J. Davis, Sr.,
Deputy Secretary.

[FR Doc. 2019-16488 Filed 8-1-19; 8:45 am]

BILLING CODE 6717-01-P